DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Report of Building or Zoning Permits Issued for New Privately-Owned Housing Units.

OMB Control Number: 0607-0094.

Form Number(s): C-404.

Type of Request: Revision of a currently approved collection.

Burden Hours: 17,539.

Number of Respondents: 19,375.

Average Hours per Response: 9 minutes.

Needs and Uses: The Census Bureau is requesting a three-year extension of a currently approved collection of the Form C-404, otherwise known as the Building Permits Survey (BPS), with minor revisions to the data collection form.

The Census Bureau produces statistics used to monitor activity in the large and dynamic construction industry. Given the importance of this industry, several of the statistical series are key economic indicators. Three such series are dependent on the BPS: (1) Housing Units Authorized by Building Permits, (2) Housing Starts, and (3) New One-Family Houses Sold. These statistics help state, local, and federal governments, as well as private industry, analyze this important sector of the economy. The building permit series are available monthly based on a sample of building permit offices, and annually based on the entire universe of permit offices. Published data from the survey can be found on the Census Bureau's Web site at http://www.census.gov/permits.

The Census Bureau collects these data primarily by mail using the Form C-404. Data are also collected via Internet web pages and receipt of electronic files. Form C-404 requests information on the number and valuation of new residential housing units authorized by building permits. The current form is titled “Report of New Privately-Owned Residential Building or Zoning Permits Issued”. We plan to change the title to “Report of Building or Zoning Permits Issued for New Privately-Owned Housing Units” to clarify the data being requested.

The proposed form includes several minor changes to the version of Form C-404 currently in use. Item 2 of the current form instructs respondents to provide details about geographic coverage changes in the Comments section; on the proposed new form, there are spaces in Item 2 itself to enter the same information. The checkboxes in Item 3a were revised for clarity, and Item 3f (the total of Items 3b-3e) was removed because we determined that respondents need not calculate these totals. The limit on the dollar valuation of permits which require additional information in Item 4 was adjusted for inflation. Other minor improvements were made to the format and layout of the form. The instructions on the back of the form were also modified to improve their clarity and completeness. These changes to the form will not have a measurable effect on respondent burden.

The Census Bureau uses the Form C-404 to collect data that will provide estimates of the number and valuation of new residential housing units authorized by building permits. About one-half of the permit offices are requested to report monthly. The remainder is surveyed once per year. We use the data, a component of the index of leading economic indicators, to estimate the number of housing units started, completed, and sold (single-family only). The Census Bureau also uses these data to select samples for its demographic surveys. In addition, the Census Bureau uses the detailed geographic data in the development of annual population estimates which are used by government agencies to allocate funding and other resources to local areas. Policymakers, planners, businessmen/women, and others use the detailed geographic data to monitor growth and plan for local services, and to develop production and marketing plans. The BPS is the only source of statistics on residential construction for states and smaller geographic areas.

Affected Public: State, local or Tribal governments.

Frequency: Monthly and annually.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: January 29, 2010.
Glenna Mickelson,
Management Analyst, Office of the Chief Information Officer.

[FR Doc. 2010-2224 Filed 2-2-10; 8:45 am]

BILLING CODE 3510-07-P